DEPARTMENT OF THE INTERIOR

National Park Service

[NPS-WASO-NAGPRA- NPS0025916; PPWOCRADN0-PCU00RP14.R50000]

Notice of Inventory Completion: San Diego Museum of Man, San Diego, CA

AGENCY: National Park Service, Interior.

ACTION: Notice.

SUMMARY: The San Diego Museum of Man has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the San Diego Museum of Man. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the San Diego Museum of Man at the address in this notice by September 7, 2018.

ADDRESSES: Ben Garcia, Deputy Director, San Diego Museum of Man, 1350 El Prado, San Diego, CA 92101, telephone (619) 239-2001 ext. 17, email bgarcia@museumofman.org.

SUPPLEMENTARY INFORMATION: Notice is here given in accordance with the Native American Graves Protection and Repatriation Act (NAGPRA), 25 U.S.C. 3003, of the completion of an inventory of human remains and associated funerary objects under the control of the San Diego Museum of Man. The human remains and associated funerary objects were removed from San Diego, San Diego County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the San Diego Museum of Man professional staff in consultation with representatives of Campo Band of Diegueno Mission Indians of the Campo Indian Reservation, California; Capitan Grande Band of Diegueno Mission Indians of California (Barona Group of Capitan Grande Band of Mission Indians of the Barona Reservation, California); Viejas (Baron Long) Group of Capitan Grande Band of the Mission Indians of the Viejas Reservation, California; Ewiiaapaayp Band of Kumeyaay Indians, California; Iipay Nation of Santa Ysabel, California (previously listed as the Santa Ysabel Band of Diegueno Mission Indians of the Santa Ysabel Reservation); Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and Sycuan Band of the Kumeyaay Nation (hereafter referred to as “The Tribes”).

History and Description of the Remains

In 1929, human remains representing, at minimum, two individuals were recovered by Malcom J. Rogers from CA-SDI-694 (W-99 and W-99A), a site located on the north side of Bataquitos Lagoon. During consultation, it was determined that CA-SDI-694 is a cemetery and that, based on traditional Kumeyaay burial practices, all objects excavated from this site are associated funerary objects. No known individuals were identified. The 163 associated funerary objects are: One unmodified faunal bone, one chipped stone biface, one projectile point, 15 chipped stone cores, 23 chipped stone core tools, 27 chipped stone unworked flakes, 37 chipped stone utilized flakes, eight groundstone manos, five groundstone metates, 19 stone ecofacts, five lots unmodified shell, five lots of soil, and 16 battered stones.

In 1929, human remains representing, at minimum, one individual were recovered by Malcom J. Rogers from CA-SDI-691/693/6867 (W-98, W-101, W-101B, and W-102), a site complex located on the north side of Bataquitos Lagoon. During consultation, it was determined that this site complex is a cemetery and that, based on traditional Kumeyaay burial practices, all objects excavated from this site are associated funerary objects. No known individuals were identified. The 125 associated funerary objects are: One undecorated ceramic body sherd, 14 lots of unmodified faunal bones, six chipped stone cores, 10 chipped stone core tools, one chipped stone knife, one chipped stone unifacial tool, 11 lots of unworked flakes, 27 utilized flakes, seven manos, one metate, one groundstone fishing or netting weight, two steatite pendants, one groundstone, two pestle fragments, 10 lots of ecofacts, 10 unmodified shells, eight lots of unmodified shells, three soil samples, six battered stones, two lots of fire affected stone, and one lot of charcoal.

In 1929, human remains representing, at minimum, two individuals were recovered by Malcom J. Rogers from CA-SDI-8195, CA-SDI-4860, and CA-SDI-4847 (W-108, W-109, W-109A, W-110), a cluster of sites north of Bataquitos Lagoon. During consultation, it was determined that these sites comprise one cemetery and that, based on traditional Kumeyaay burial practices, all objects excavated from these sites are associated funerary objects. No known individuals were identified. The 233 associated funerary objects are: Four lots of unmodified faunal bones, two decorated ceramic sherds, one ceramic undecorated rim sherd, four lots of mixed ceramic sherds, one chipped stone biface, 16 chipped stone cores, 87 chipped stone core tools, three stone spear points, four chipped stones, three stone scrapers, seven projectile points, one unworked flake, three lots of unworked flakes, one stone crescentic, 54 utilized flakes, 14 manos, one metate, one groundstone, two stone pestles, one stone ecofact, three lots of ecofacts, one modified shell pendant, three lots of unmodified shell, one soil sample, and 15 battered stones.

In 1929, human remains representing, at minimum, one individual were recovered by Malcom J. Rogers from CA-SDI-4548, 4990 (W-92), a site south of Bataquitos Lagoon. Based on traditional Kumeyaay burial practices, all objects excavated from this site are associated funerary objects. No known individuals were identified. The 241 associated funerary objects are: One chipped stone biface, 11 cores, 45 core tools, one projectile point, one scraper, four lots of unworked flakes, 162 utilized flakes, eight manos, one lot of ecofacts, one olivella shell bead, two lots of unworked shell, one soil sample, two battered stones, and one lot of unmodified faunal bone.

In 1929, human remains representing, at minimum, one individual were recovered by Malcom J. Rogers from CA-SDI-630 (W-141 and W-141B), a site east of Buena Vista Lagoon along Buena Vista Creek. Based on traditional Kumeyaay burial practices, all objects excavated from this sites are associated funerary objects. No known individuals were identified. The 44 associated funerary objects are: One decorated ceramic sherd, one undecorated ceramic sherd, one lot of undecorated ceramic sherds, one biface, seven stone choppers, one crescentic fragment, 13 stone scrapers, three lots of unworked flakes, two manos, one mortar, one heating stone, one arrow shaft straightener, one olivella shell bead, one shell pendant, five lots of unmodified shell, two soil samples, one battered stone, and one lot of unmodified faunal bone.

At an unknown date prior to 1949, human remains representing, at minimum, one individual were donated to the San Diego Museum of Man by H.E. Ellery. Other than their association to W-146, no additional information exists about the date of collection or collector. Based on traditional Kumeyaay burial practices, all objects excavated from this site are associated funerary objects to this individual. No known individuals were identified. The 24 associated funerary objects are: One mixed lot of faunal bone and shell, two lots unmodified faunal bone, one lot of undecorated ceramics sherds, one chipped stone biface, one core tool, three scrapers, four lots of unworked flakes, two manos, one abrader, one ecofact, five unmodified shells, one soil sample, and one hammerstone.

At an unknown date prior to 1949, human remains representing, at minimum, one individual were donated to the San Diego Museum of Man by John Kelley. Mr. Kelley collected this burial following a heavy flood and landslide on his property in 1916, also known as W-148. Based on traditional Kumeyaay burial practices, all objects removed from this site are associated funerary objects to this individual. No known individuals were identified. The eight associated funerary objects are: one battered stone, one stone scraper, one unworked flake, one rim sherd, one unmodified faunal bone, one oyster shell, one lot miscellaneous shell, and one soil sample.

In 1929, human remains representing, at minimum, two individuals were recovered by Malcom J. Rogers from CA-SDI-8797, CA-SDI-10671, CA-SDI-6132, and CA-10673 (W-116, W-118, W-119, and W-129), a cluster of sites south of Agua Hedionda Lagoon. During consultation, it was determined that these site comprise one cemetery and that, based on traditional Kumeyaay burial practices, all objects excavated from these sites are associated funerary objects. No known individuals were identified. The 149 associated funerary objects are: Three lots of ceramic sherds, five lots of unmodified faunal bone, one heating stone, five stone cores, 25 chipped stone core tools, two chipped stone bifaces, eight scrappers, three unworked flakes, 11 lots of unworked flakes, 39 utilized flakes, nine manos, one metate, six groundstones, six lots of ecofacts, six lots of shell, one unmodified shell, one olivella bead, four soil samples, six battered stones, one chopper, four hammerstones, one fire-affected rock, and one stone bead.

In 1929, human remains representing, at minimum, one individual were recovered by Malcom J. Rogers from CA-SDI-6134 (W-121), a site south of Agua Hedionda Lagoon. During consultation, it was determined that this site is a cemetery and that, based on traditional Kumeyaay burial practices, all objects excavated from this site are associated funerary objects. No known individuals were identified. The 64 associated funerary objects are: One bone awl, seven lots unmodified faunal bone, one undecorated ceramic body sherd, one chipped stone biface fragment, one chipped stone core, 25 chipped stone scrapers, 10 lots of chipped stone unworked flakes, one chipped stone utilized flake, one mano, one hematite “charm stone”, one steatite doughnut stone fragment, one sandstone grinding slab fragment, one modified wood piece, one ecofact, six lots of unmodified shell, two soil samples, and three battered stones.

In 1929, human remains representing, at minimum, one individual were recovered by Malcom J. Rogers from W-124, a site south of Agua Hedionda Lagoon. During consultation, it was determined that this site is a cemetery and that, based on traditional Kumeyaay burial practices, all objects excavated from this site are associated funerary objects. No known individuals were identified. The 20 associated funerary objects are: One lot of undecorated ceramic body sherds, one chipped stone flaking and battering fragment, 11 chipped stone scrapers, three lots of chipped stone unworked flakes, one lot unmodified shell, and three battered stones.

The excavations at the above sites by Rogers and the other individuals were often conducted at the behest of the San Diego Museum of Man. These sites are all located within well-known and documented territories occupied by the Kumeyaay Nation. Based on archeological evidence, geographic location, ethnographic information, and oral history evidence, these remains have been identified as Native American.

Determinations Made by the San Diego Museum of Man

Officials of the San Diego Museum of Man have determined that:

• Pursuant to 25 U.S.C. 3001(9), the human remains described in this notice represent the physical remains of 13 individuals of Native American ancestry.

• Pursuant to 25 U.S.C. 3001(3)(A), the 1,071 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Ben Garcia, Deputy Director, San Diego Museum of Man, 1350 El Prado, San Diego, CA 92101, telephone (619) 239-2001 ext. 17, email bgarcia@museumofman.org, by September 7, 2018. After that date, if no additional requestors have come forward, transfer of control of the human remains and associated funerary objects to The Tribes may proceed.

The San Diego Museum of Man is responsible for notifying The Tribes that this notice has been published.

Dated: June 29, 2018.
Melanie O'Brien,
Manager, National NAGPRA Program.

[FR Doc. 2018-16921 Filed 8-7-18; 8:45 am]

BILLING CODE 4312-52-P